DEPARTMENT OF THE TREASURY

31 CFR Part 50

Terrorism Risk Insurance Program; Updated Regulations in Light of the Terrorism Risk Insurance Program Reauthorization Act of 2019, and for Other Purposes; Correction

AGENCY: Departmental Offices, Department of the Treasury.

ACTION: Final rule, technical correction.

SUMMARY: The Department of the Treasury (Treasury) is correcting a final rule that published on June 9, 2021. The final rule implemented changes to the Terrorism Risk Insurance Program rules in response to the Terrorism Risk Insurance Program Reauthorization Act of 2019.

DATES: Effective July 12, 2021.

FOR FURTHER INFORMATION CONTACT: Richard Ifft, Senior Insurance Regulatory Policy Analyst, Federal Insurance Office, 202-622-2922, Lindsey Baldwin, Senior Insurance Regulatory Policy Analyst, Federal Insurance Office, 202-622-3220, or Daniel McKnight, Policy Analyst, 202-622-7009.

SUPPLEMENTARY INFORMATION: In FR Doc. 2021-12014 appearing on page 30537 in the Federal Register of Wednesday, June 9, 2021, the following correction is made:

§ 50.4 [Corrected]

1. On page 30540, in the first column, in § 50.4, in amendment 3, the instruction “Amend § 50.4 by revising paragraphs (b)(2)(ii) and (n)(3)(iii), adding paragraph (n)(3)(iv) and revising (w)(1) and (2) to read as follows:” is corrected to read “Amend § 50.4 by revising paragraphs (b)(2)(ii) and (n)(3)(iii), adding paragraph (n)(3)(iv), and revising paragraph (w)(1) and paragraph (w)(2) introductory text to read as follows:”

Steven E. Seitz,
Director, Federal Insurance Office, performing the Delegable Duties of the Assistant Secretary for Financial Institutions.

[FR Doc. 2021-12456 Filed 6-14-21; 8:45 am]

BILLING CODE 4810-AK-P